DEPARTMENT OF ENERGY

Federal Energy Regulatory Commission

[Project No. 2620-005]

Lockhart Power Company; Notice of Effectiveness of Withdrawal of Request To Determine if Unite Replacement Is Handled Under Maintenance and Repair

On June 7, 2023, Lockhart Power Company filed a request to determine that its plan to replace the turbine and generator of Unit #5 can be considered as maintenance and repair for the Lockheart Project No. 2620. On August 14, 2024, Lockhart Power Company filed a notice of withdrawal of the request for review of unit replacement.

No motion in opposition to the notice of withdrawal has been filed, and the Commission has taken no action to disallow the withdrawal. Pursuant to Rule 216(b) of the Commission's Rules of Practice and Procedure,¹ the withdrawal became effective on August 29, 2024, and this proceeding is hereby terminated.

¹ 18 CFR 385.216(b) (2024).

(Authority: 18 CFR 2.1)

Dated: February 13, 2026.
Debbie-Anne A. Reese,
Secretary.

[FR Doc. 2026-03344 Filed 2-19-26; 8:45 am]

BILLING CODE 6717-01-P